DEPARTMENT OF JUSTICE

Office of Justice Programs

Agency Information Collection Activities Proposed Collection; Comments Requested

ACTION: 60-Day Notice of Information Collection Under Review: New collection Census of Jail Facilities.

The Department of Justice (DOJ), Office of Justice Programs, Bureau of Justice Statistics, has submitted the following information collection request to the Office of Management and Budget (OMB) for review and approval in accordance with the Paperwork Reduction Act of 1995. The proposed information collected is published to obtain comments from the public and affected agencies. Comments are encouraged and will be accepted for “sixty days” until January 13, 2006. This process is conducted in accordance with 5 CFR 1320.10.

If you have comments, especially the estimated public burden or associated response time, suggestions, or need a copy of the proposed information collection instrument with instructions or additional information, please contact James Stephan, Statistician (202) 616-3289, Bureau of Justice Statistics, Office of Justice Programs, U.S. Department of Justice, 810 Seventh Street NW., Washington, DC 20531.

Requests for written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and Minimize the burden of the collection of information on those who are to respond, including through the use of appropriate automated, electronic, mechanical, or other technological collection techniques or other forms of information technology, e.g. permitting electronic submission of responses.

Overview of this information collection:

(1) Type of information collection: New collection.

(2) The title of the Form/Collection: Census of Jail Facilities, 2006.

(3) Agency form number, if any, and the applicable component of the Department of Justice sponsoring the collection: Form Number: CJ-3F. Bureau of Justice Statistics, Office of Justice Programs, United States Department of Justice.

(4) Affected public who will be asked to respond, as well as a brief abstract: Primary: County and City jail authorities. Secondary: Federal authorities and private correctional facility operators. The Census of Jail Facilities, together with the Census of Jail Inmates, is the foundation for all national statistics on local jails and inmates. These censuses provide the frames from which to generalize to the nation and to track changes over time. Without periodic censuses, sample surveys would be unreliable, and statistics would be based on a group of jails of unknown representativeness, that were simply convenient to contact and willing to respond. These censuses provide a benchmark against which jurisdictions may compare their correctional populations. Administrators use their data to evaluate staffing and budget needs relative to similarly situated jail jurisdictions. Practitioners, policy makers, and researchers are able to test assertions and conclusions about the causes and consequences of current sentencing release policies. Finally, the censuses present raw material for discussion and evaluation of correctional policies and practices throughout the nation, in some States providing the only sources of objective descriptions of the operation of local jails.

(5) An estimate of the total number of respondents and the amount of time estimated for an average respondent to respond: Three thousand eighty-four respondents each taking an average of 120 minutes to respond.

(6) An estimate of the total public burden (in hours) associated with the collection: There are an estimated 6,168 annual total burden hours associated with the collection.

If additional information is required, contact: Robert B. Briggs, United States Department of Justice, Justice Management Division, Policy and Planning Staff, Patrick Henry Building, Suite 1600, 601 D Street NW., Washington, DC 20530.

Dated: November 7, 2005.
Robert B. Briggs,
Department Clearance Officer, Department of Justice.

[FR Doc. 05-22509 Filed 11-10-05; 8:45 am]

BILLING CODE 4410-18-P